FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 29, 2008.

A. Federal Reserve Bank of Richmond (A. Linwood Gill, III, Vice President) 701 East Byrd Street, Richmond, Virginia 23261-4528:

1. Christopher James Polino, to control at least 15 percent of the voting shares of Davis Trust Financial Corporation, and thereby acquire shares of Davis Trust Company, all of Elkins, West Virginia.

B. Federal Reserve Bank of Minneapolis (Jacqueline G. King, Community Affairs Officer) 90 Hennepin Avenue, Minneapolis, Minnesota 55480-0291:

1. Brian K. Solsrud, Minneapolis, Minnesota; Gregory A. Solsrud, Dunwoody, Georgia; Corinne E. Solsrud, Mosinee, Wisconsin; and Rachel A. Solsrud Goodell, Augusta, Wisconsin, individually and as a group acting in concert to acquire control of Kimberly Leasing Corporation, Augusta, Wisconsin, and thereby indirectly acquire control of Unity Bank, Rush City, Minnesota.

2. Noah Wynter Wilcox, to join a group acting in concert with Steven Monroe Wilcox, to acquire control of Wilcox Bancshares, Inc., and thereby indirectly acquire control of Grand Rapids State Bank, all of Grand Rapids, Minnesota.

Board of Governors of the Federal Reserve System, July 9, 2008.
Robert deV. Frierson,
Deputy Secretary of the Board.

[FR Doc. E8-15936 Filed 7-11-08; 8:45 am]

BILLING CODE 6210-01-S